DEPARTMENT OF THE INTERIOR

Bureau of Land Management

[LLAZP02000.L51010000.ER0000.LVRWA12A2350.XXX; AZA-34177]

Notice of Availability of the Draft Environmental Impact Statement for the Sonoran Valley Parkway, Maricopa County, AZ

AGENCY: Bureau of Land Management, Interior.

ACTION: Notice of availability.

SUMMARY: In accordance with the National Environmental Policy Act of 1969, as amended (NEPA), the Bureau of Land Management (BLM) has prepared a Draft Environmental Impact Statement (EIS) for the proposed Sonoran Valley Parkway Project (Parkway) and by this notice is announcing the opening of the comment period.

DATES: To ensure that comments will be considered, the BLM must receive written comments on the Draft EIS for the Parkway within 45 days following the date the Environmental Protection Agency publishes its Notice of Availability in the Federal Register. The BLM will announce future meetings and any other public involvement activities at least 15 days in advance through public notices, media releases, and/or mailings.

ADDRESSES: You may submit comments related to the proposed Parkway by any of the following methods:

• Web site: http://www.blm.gov/az/st/en/prog/lands_realty/svpp-eis.html.

• Email: BLM_AZ_SVPP@blm.gov.

• Fax: 623-580-5500.

• Mail: BLM Phoenix District Office, Lower Sonoran Field Office, Attention: Kathleen Depukat, Project Manager/Sonoran Valley Parkway, 21605 North 7th Avenue, Phoenix, AZ 85027-2929.

Copies of the Draft EIS for the proposed Parkway are available in the Phoenix District Office at the above address; the BLM Arizona State Office, One North Central Avenue, Suite 800, Phoenix, AZ 85004; and public library branches in Goodyear, Maricopa, and Avondale, Arizona, as noted in the SUPPLEMENTARY INFORMATION section.

FOR FURTHER INFORMATION CONTACT: Kathleen Depukat, BLM Phoenix District Project Manager; telephone 623-580-5681; address 21605 North 7th Avenue, Phoenix, AZ 85027-2929; email kdepukat@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The City of Goodyear submitted an application for a permanent 250-foot wide right-of-way (ROW) to the BLM for the construction and operation of a two to six-lane, approximately 15- to 18-mile-long Parkway. The proposed Parkway would connect residents of the annexed lands of Goodyear's Sonoran Valley Planning Area to the Goodyear, Arizona city center, Maricopa County, Arizona. The total length of the proposed Parkway depends on the Alternative and/or Sub-alternative selected and authorized by the BLM. The Parkway is proposed to be built in three phases of two lanes each. The timeframe for the phased construction will be determined based on current and future growth in the area. The first phase of the proposed Parkway will be built as soon as funding can be obtained by the City of Goodyear.

The majority of the proposed Parkway would be located on the BLM lands administered by the Lower Sonoran Field Office; the remainder would occur on private and Arizona State Land Department lands. The BLM-managed lands within the proposed Parkway area are managed under the Lower Sonoran Resource Management Plan. The proposed Parkway would commence at the intersection of Rainbow Valley Road and Riggs Road and run in a southeasterly direction, within the eastern and northern portion of the existing El Paso Natural Gas designated multi-use utility corridor, to State Route (SR) 238 at a point just west of the community of Mobile, Arizona.

The BLM's purpose and need for this action is to respond to Goodyear's application under Title V of the Federal Land Policy and Management Act of 1976 (FLPMA) (43 USC 1761 et seq.), for a ROW grant to construct, operate, and maintain a proposed two- to six-lane Parkway in compliance with FLPMA, the BLM ROW regulations, and other applicable Federal laws. The BLM will decide whether to approve, approve with modification, or deny the issuance of a ROW grant to Goodyear for the proposed Parkway.

The BLM published a Notice of Intent (NOI) to prepare an EIS on April 2, 2008, in the Federal Register (73 FR 17995). Publication of the NOI began a 30-day scoping period, which ended on May 1, 2008. The BLM provided a Web site with project information that also described the various methods of providing public comment on the project, including an email address for the BLM to receive scoping comments electronically. Notifications for public scoping meetings were posted on the BLM's Web site. Additionally, notices were announced in the Federal Register on April 2, 2008, and published in a legal ad in the City of Goodyear's InFocus Newsletter in May 2008; postcards were mailed to the BLM stakeholder list on May 7-9, 2009.

Public Scoping Meetings were held on May 28, 2009, at the Goodyear City Hall and on May 29, 2008, at the Global Water Conference Center in Maricopa and the Mobile Elementary School in Mobile, Arizona. Attendees were documented using a voluntary sign-in sheet showing 7 attendees at the City of Goodyear, 9 attendees at the Global Water Conference Center, and 16 attendees at the Mobile Elementary School. A contractor documented the questions and public comments made at the three scoping meetings. Attendees included residents from Phoenix, Maricopa, Mobile, and Goodyear, Federal and State agency representatives, tribes, and a public citizens' group.

Seventeen comment letters or emails were received within the scoping period. The issues addressed in the Draft EIS that shaped the Parkway's scope and proposed alternatives include air resources, cultural and heritage resources, paleontological resources, soil resources, vegetation resources, visual resources, water resources, wildland fire management, wildlife and special status species, lands and realty, livestock grazing, recreation management, travel management, special designations, noise, hazardous materials and public safety, and social and economic conditions.

In addition to the Proposed Action (Alternative A) and No Action Alternative, the Draft EIS for the Parkway considers two proposed Action Alternatives and two proposed Action Sub-alternative routes that were analyzed in detail in the Draft EIS. The Sub-alternatives were developed to avoid a historic homestead site near the southern terminus of the proposed alignment in Mobile at SR 238. The Alternative A is within an existing one-mile-wide multi-use utility corridor that borders the Sonoran Desert National Monument. The entire Alternative A is within Class IV for Visual Resource Management. The project area is within known habitat for the Sonoran Desert tortoise and the Tucson shovel-nosed snake. There are also two designated wildlife movement corridors. The first corridor is the Sierra Estrella-Sonoran Desert National Monument linkage for bobcat, desert tortoise, Gila monster, javelina, and mule deer as designated in the Arizona Wildlife Linkages Assessment. The second corridor is the BLM-designated wildlife corridor adopted from the Arizona Game and Fish Department Bighorn Sheep Management Plan and present within the proposed Parkway area for all alternatives. All Sub-alternatives for the southern terminus will cross the congressionally designated Juan Bautista de Anza National Historic Trail, the Butterfield Overland Stage Trail, and the Mormon Battalion Trail which are located within the Lower Gila Terraces and Historic Trails Area of Critical Environmental Concern. However, the locations where the proposed Parkway Sub-alternatives would cross the three trails are located on private land not managed by the BLM. The EIS does include suggested mitigation measures that would address the impacts to the Juan Bautista de Anza National Historic Trail, the Butterfield Overland State Trail, and the Mormon Battalion Trail on private land. An interdisciplinary approach was used to develop the Draft EIS in order to consider the variety of resource issues and concerns identified. A modified Proposed Action, Alternative A, including Sub-alternative G is the BLM's preferred alternative. The BLM will utilize and coordinate the NEPA comment period to satisfy the public involvement process for Section 106 of the National Historic Preservation Act (16 U.S.C. 470), as provided for in 36 CFR 800.2(d)(3). Native American tribal consultations are being conducted in accordance with policy, and tribal concerns, including impacts on Indian trust assets, will be given due consideration. Federal, State, and local agencies, along with other stakeholders that may be interested or affected by the BLM's decision on this project, are invited to participate in the public comment process. Please note that public comments and information submitted, including names, street addresses, and email addresses of persons who submit comments, may be available for public review and disclosure at the above address during regular business hours (8 a.m. to 4 p.m.), Monday through Friday, except holidays.

Copies of the Draft EIS for the proposed Parkway are available in the BLM Arizona State Office, One North Central Avenue, Suite 800, Phoenix, AZ 85004; the Phoenix District Office at the above address; the Goodyear Branch Library, 250 North Litchfield Road, Suite 185, Goodyear, AZ 85338; the Maricopa Public Library, 41600 W. Smith-Enke Road, Building #10, Maricopa, AZ 85138; the Old Town Branch Library, 328 West Western Avenue, Avondale, AZ 85323; and the Avondale City Library, 495 East Western Avenue, Avondale, AZ 85323.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10.

Dorothea J. Boothe,
Acting, Lower Sonoran Field Manager.

[FR Doc. 2013-17265 Filed 7-18-13; 8:45 am]

BILLING CODE 4310-32-P